DEPARTMENT OF LABOR

Employment and Training Administration

[TA-W-56,402]

Metalforming Technologies, Inc., Safety Systems Division Including Leased Workers of Addecco, Burton, MI; Notice of Termination of Investigation

Pursuant to Section 221 of the Trade Act of 1974, as amended, an investigation was initiated on January 27, 2005 in response to a petition filed on behalf of workers of Metalforming Technologies, Inc., Safety Systems Division, Burton, Michigan.

The petitioning group of workers is covered by an active certification issued on January 10, 2005, which remains in effect (TA-W-56,402). Consequently, further investigation in this case would serve no purpose, and the investigation has been terminated.

Signed at Washington, DC, this 2nd day of February 2005.
Richard Church,
Certifying Officer, Division of Trade Adjustment Assistance.

[FR Doc. E5-1111 Filed 3-14-05; 8:45 am]

BILLING CODE 4510-30-P